DEPARTMENT OF HEALTH AND HUMAN SERVICES

Food and Drug Administration

[Docket No. 2006F-0058]

ARCH Chemicals, Inc.; Withdrawal of Food Additive Petition FAP 6B4764

AGENCY: Food and Drug Administration, HHS.

ACTION: Notice.

SUMMARY: The Food and Drug Administration (FDA) is announcing the withdrawal, without prejudice to a future filing, of a food additive petition (FAP 6B4764) proposing that the food additive regulations be amended to provide for the safe use of poly (iminoimidocarbonyliminoimidocarbonyliminohexamethylene) hydrochloride (CAS Reg No. 32289-58-0) as an antimicrobial agent in the manufacture of food-contact paper and paperboard.

FOR FURTHER INFORMATION CONTACT: Elizabeth S. Furukawa, Center for Food Safety and Applied Nutrition (HFS-275), Food and Drug Administration, 5100 Paint Branch Pkwy., College Park, MD 20740-3835, 301-436-1216, e-mail: Elizabeth.Furukawa@fda.hhs.gov.

SUPPLEMENTARY INFORMATION: In a notice published in the Federal Register of February 15, 2006 (71 FR 7975), FDA announced that a food additive petition (FAP 6B4764) had been filed by ARCH Chemicals, Inc., 1955 Lake Park Dr., suite 100, Smyrna, GA 30080. The petition proposed to amend the food additive regulations in 21 CFR 176.170 Components of paper and paperboard in contact with aqueous and fatty foods and 21 CFR 176.180 Components of paper and paperboard in contact with dry food to provide for the safe use of poly (iminoimidocarbonyliminoimidocarbonyliminohexamethylene) hydrochloride (CAS Reg. No. 32289-58-0) as an antimicrobial agent in the manufacture of food-contact paper and paperboard. ARCH Chemicals, Inc., has now withdrawn the petition without prejudice to a future filing (21 CFR 171.7).

Dated: November 9, 2007.
Laura M. Tarantino,
Director, Office of Food Additive Safety, Center for Food Safety and Applied Nutrition.

[FR Doc. E7-22536 Filed 11-16-07; 8:45 am]

BILLING CODE 4160-01-S